DEPARTMENT OF DEFENSE

Department of the Navy

Notice of Intent To Prepare a Supplement to the 1997 Environmental Impact Statement for the Yuma Training Range Complex

AGENCY: Department of the Navy, DOD.

ACTION: Notice.

SUMMARY: Pursuant to the National Environmental Policy Act as implemented by the Council on Environmental Quality regulations (40 CFR parts 1500-1508), the Department of the Navy intends to prepare a Supplement to the 1997 Environmental Impact Statement for the Yuma Training Range Complex to evaluate the cumulative impacts on the Sonoran Pronghorn, an endangered species, of Marine Corps actions when added to other past, present, and reasonably foreseeable future actions.

ADDRESSES: Questions regarding preparation of the SEIS may be directed to: Commander, Southwest Division, Naval Facilities Engineering Command, 1220 Pacific Highway, San Diego, CA 92132-5190 (Attn: Ms. Deb Therouix).

FOR FURTHER INFORMATION CONTACT: Ms. Deb Therouix, telephone (619) 532-3348, fax (619) 522-2648, E-Mail therouixde@efdsw.navfac.navy.mil.

SUPPLEMENTARY INFORMATION: The Marine Corps completed an environmental impact statement (EIS) in 1997 addressing its military aviation and associated training impacts on the Yuma Training Range Complex. This complex includes the Barry M. Goldwater Range, AZ, which contains habitat for the Sonoran Pronghorn.

On February 12, 2001, the United States District Court for the District of Columbia found that the cumulative impact analysis in the 1997 Yuma Training Range Complex EIS was deficient in that if failed to provide sufficient analysis of cumulative impacts on the Sonoran Pronghorn in accordance with 40 CFR 1508.7. The Court remanded the matter to the Marine Corps for further consideration of such impacts.

Accordingly, the Department of the Navy is preparing a Supplement to the EIS, in accordance with 40 CFR 1502.9(c), that will evaluate the cumulative impacts on the Sonoran pronghorn of Marine Corps actions when added to other past, present, and reasonably foreseeable future actions regardless of what agency or person undertakes such other actions.

Dated: April 18, 2001.
Duncan Holaday,
Deputy Assistant Secretary of the Navy (Installations and Facilities).

[FR Doc. 01-10220 Filed 4-24-01; 8:45 am]

BILLING CODE 3810-FF-M